DEPARTMENT OF HEALTH AND HUMAN SERVICES

Centers for Disease Control and Prevention

Notice of Intent To Award Ebola Response Outbreak Funding to African Field Epidemiology Network (AFENET)

AGENCY: Centers for Disease Control and Prevention (CDC), Department of Health and Human Services (HHS).

ACTION: Notice.

SUMMARY: This notice provides public announcement of CDC's intent to award Ebola appropriations to AFENET for response to the Ebola outbreak funding. This award was proposed in Fiscal Year (FY) 2015 under funding opportunity announcement GH10-1006 Strengthening the Development of Applied Epidemiology and Sustainable Public Health Capacity through Collaboration, Program Development and Implementation, Communication and Information Sharing.”

Catalogue of Federal Domestic Assistance Number (CFDA): 93.283

Authority: Public Health Service Act 42 U.S.C. 287b 31 U.S.C. 6305 42 CFR 63a.

Single award may be awarded totaling $1,800,000 for Ebola response outbreak.

Funding is appropriated under the Continuing Appropriations Resolution, 2015, Public Law 113-164, 128 Stat. 1867 (2014).

DATES: Anticipated award date 10/30/2014 through 09/14/2015

Application Due Date: 10/23/2014 Project Number is CDC-RFA-GH10-1006

ADDRESSES: CDC has waived the Grants.gov electronic submission process for this requirement. Recipients are hereby authorized to submit a paper copy application for (CDC-RFA-GH10-1006) via Express Mail (i.e. FedEx, UPS, or DHL) and send the application via email. Mailed applications must be address to Arthur C. Lusby, Centers for Disease Control and Prevention, 2920 Brandywine Road, Atlanta, GA 30341, telephone (770) 488-2865, or email him at ALusby@cdc.gov. The application must include a detailed line-item budget and justification to support the Ebola activities from October 31, 2014 to September 29, 2015. Please download the following to complete the application package: http://apply07.grants.gov/apply/forms/sample/SF424_2_1-V2.1.pdf—Application Package; http://www.cdc.gov/od/pgo/funding/docs/CertificationsForm.pdf—Certifications; http://www.cdc.gov/od/pgo/funding/grants/Budget_Preparation_Guidelines_8-2-12.docx—CDC-PGO Budget Guidelines; http://apply07.grants.gov/apply/forms/sample/SF424A-V1.0.pdf—SF-424A Budget Information.

All applications must be submitted to and received by the Grants Management Officer (GMO) no later than 11:59 p.m. EST on October 23, 2014 and please provide the GMO a PDF version of the application by email to the following email address: pgoebolaresponse@cdc.gov subject line: CDC-RFA-GH10-1006.

Applicants will be provided with the Funding Opportunity Announcement (FOA) and additional application submission guidance via email notification. Applicants may contact the POCs listed with questions regarding the application process.

FOR FURTHER INFORMATION CONTACT:

For Programmatic or Technical Assistance

Kenneth Johnson, Project Officer, Department of Health and Human Services, Centers for Disease Control and Prevention, 1600 Clifton Rd MS E-93, Atlanta, GA 30333, Telephone: 404 639-4203, KAJO@cdc.gov.

For financial, awards management, or budget assistance: Arthur C. Lusby, Grants Management Officer, Centers for Disease Control and Prevention, 2920 Brandywine Road, Atlanta, GA 30341, Telephone (770) 488-2865, Email: ALusby@cdc.gov.

SUPPLEMENTARY INFORMATION: The purpose of this notice is to solicit an application from AFENET to assist in addressing the spread of the Ebola virus in West Africa and contain the disease as quickly as possible. The funding will support the impacted Ebola-affected countries and the surrounding countries to combat this health crisis. This funding will target the following countries: Liberia, Sierra Leone, Guinea, Burkina Faso, Niger, Mauritania, Mali, Senegal, Guinea Bissau, Ghana, Gambia, Cote d'Ivoire, Togo, Benin, and Nigeria to support the response to the outbreak of Ebola virus in West Africa. This funding will enable the U.S. to provide unified mobilization to address a crisis of this magnitude. CDC will continue to build partnerships and strengthen existing projects to respond to Ebola. CDC and its partners will help to address the need for surveillance, detection, coordination, response, and increase eligible governments' capacity to respond to the Ebola outbreak.

Award Information

Type of Award: Expansion Supplement.

Approximate Total Current Fiscal Year ACA Funding: $1,800,000.

Anticipated Number of Awards: single.

Fiscal Year Funds: 2015.

Anticipated Award Date: October 30, 2014.

Application Selection Process: Funding will be awarded to applicant based on results from the technical review recommendation.

Dated: October 20, 2014.
Ron A. Otten,
Acting Deputy Associate Director, Centers for Disease Control and Prevention.

[FR Doc. 2014-25248 Filed 10-20-14; 4:15 pm]

BILLING CODE 4163-18-P